SMALL BUSINESS ADMINISTRATION

[License No. 03/33-0268]

Renovus Capital Partners II, L.P.; Notice Seeking Exemption Under Section 312 of the Small Business Investment Act, Conflicts of Interest

Notice is hereby given that Renovus Capital Partners II, L.P., 460 E. Swedesford Road, Suite 2050, Wayne, PA 19087, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Renovus Capital Partners L.P and Renovus Capital Partners II, L.P. provide equity financing to RCP Education I, LLC d/b/a Great Lakes Institute of Technology, 5100 Peach Street, Erie Pennsylvania 16509.

The financing is brought within the purview of § 107.730(a)(1) of the Regulations because Renovus Capital Partners, L.P., an Associate of Renovus Capital Partners II, L.P., owns more than ten percent of RCP Education I, LLC d/b/a Great Lakes Institute of Technology and therefore this transaction is considered Financing an Associate requiring prior SBA written exemption.

Therefore, this transaction is considered financing an Associate, requiring a prior SBA exemption. Notice is hereby given that any interested person may submit written comments on the transaction, within fifteen days of the date of this publication, to the Associate Administrator for Investment, U.S. Small Business Administration, 409 Third Street SW, Washington, DC 20416.

Christopher L. Weaver,
Acting Associate Administrator, Office of Investment and Innovation.

[FR Doc. 2020-14288 Filed 7-1-20; 8:45 am]

BILLING CODE P